DEPARTMENT OF DEFENSE

Department of the Army; Corps of Engineers

Intent To Prepare a Draft Environmental Impact Statement for a Flood Damage Reduction Study, Missouri River Levees System Units L-455 and R 471-460, Buchanan County, MO and Doniphan County, KS

AGENCY: Department of the Army, U.S. Army Corps of Engineers, DoD.

ACTION: Notice of intent.

SUMMARY: The U.S. Army Corps of Engineers, Kansas City District (KCD), intends to prepare a Draft Environmental Impact Statement (DEIS) and Feasibility Study of flood damage reduction measures for property currently afforded flood protection by the Missouri River Levee System (MRLS) Units L-455 and R 471-460, in Buchanan County, Missouri and Doniphan County, Kansas. The purpose of this DEIS is to consider the economic, environmental, and social impacts that may occur as a result of various alternatives being considered in a flood damage reduction study, concerning flood protection provided by the existing MRLS Units L-455 and R 471-460. The study would determine the existing level of flood protection as well as possible flood damage reduction measures beyond what currently exists, under the authority of Section 216 of the 1970 Flood Control Act.

FOR FURTHER INFORMATION CONTACT: Ms. Maria Chastain-Brand, Formulation Section, Planning Branch, ATTN: CENWK-PM-PF, U.S. Army Engineer District, Kansas City, 601 East 12th Street, Kansas City, MO 64106-2896, Phone 816-983-3107 or Maria E. Chastain-Brand@usace.army.mil.

SUPPLEMENTARY INFORMATION: 1. The U.S. Army Corps of Engineers, KCD, intends to prepare a DEIS and Feasibility Study of flood damage reduction measures for property currently afforded flood protection by the MRLS Units L-455 and R 471-460, in Buchanan County, Missouri and Doniphan County, Kansas. The purpose of this DEIS is to consider the economic, environmental, and social impacts that may occur as a result of various alternatives being considered in a flood damage reduction study. The Study would determine the existing level of flood protection as well as possible flood damage reduction measures beyond what currently exists, under the authority of Section 216 of the Flood Control Act.

2. The MRLS Units L-455 and R 471-460, are existing flood damage reduction projects which provide local flood protection for agricultural needs, the metropolitan area of St. Joseph, Missouri and the communities of Wathena and Elwood in Kansas. The two levees units are located on opposite sites of the Missouri River.

Levee unit L-455 is located on the left bank of the Missouri River in Buchanan County, Missouri, and connects to high ground in the southwestern part of St. Joseph, Missouri. The levee unit extends from Missouri River mile 447.3 downstream to mile 437.3 and then upstream along Contrary Creek. Levee unit L-455 is 15.6 miles long, averages 13 feet in height, and protects approximately 7,500 acres of urban and rural areas from flooding. Rural lands consist of about 6,500 acres. Urban lands include industrial, commercial, and residential areas of the city of St. Joseph, Missouri, including the residential and recreational development in the Lake Contrary area.

Levee unit R 471-460 is located on the right bank of the Missouri River between river mile 441.7 and 456.6 in eastern Doniphan County, Kansas, and a portion of western Buchanan County, Missouri. This levee unit is 13.8 miles long, averages 14.8 feet in height and protects approximately 13,500 acres of rural and urban areas from flooding. Rural lands consist of about 10,000 acres. Urban lands include the communities of Elwood and Wathena, Kansas. It also includes the area within an oxbow, which is a part of St. Joseph, Missouri and contains the Rosecrans Memorial Air National Guard Base.

3. KCD's study will evaluate the no action alternative as well as various structural and non-structural alternatives to determine:

a. Flood damage reduction costs and benefits;

b. Regional social and economic impacts; and

c. Environmental impacts and mitigation measures.

Reasonable alternatives KCD will examine include the feasibility of various structural and non-structural measures to reduce flood damage within areas protected by the existing MRLS Units L-455 and R 471-460. Structural alternatives may include reinforcing the existing structures, raising the existing levee with earth fill, floodwalls with a corresponding rise of appurtenances, or other change to the existing levee systems. Non-structural measures may include the development of contingency plans.

4. Scoping Process

a. A public workshop/scoping meeting will be held in the spring of 2004 in St. Joseph, MO area. The exact date, time, and location of the scoping meeting will be announced when the details are finalized. Additional workshops and meetings will be held as the study progresses to keep the public informed. Coordination meetings will be held as needed with the affected/concerned local, State, and Federal governmental entities, and tribes. These workshops and meetings, as well as any meetings which were previously held regarding this project, will serve as the collective scoping process for the preparation of the DEIS. Draft documents forthcoming from the study will be distributed to Federal, State, and local agencies, as well as interested members of the general public, for review and comment.

b. Potential issues to be analyzed in depth include evaluations of:

(1) Level of flood protection provided by the existing flood protection project and need for increased level of protection;

(2) Costs and benefits associated with alternatives that increase the flood protection level of the existing flood protection project;

(3) Fish and wildlife resources;

(4) Recreation;

(5) Cultural resources.

c. Environmental consultation and review will be conducted in accordance with the requirements of the National Environmental Policy Act of 1969, as per regulations of the Council of Environmental Quality (code of Federal Regulations Parts 40 CFR 1500-1508), and other applicable laws, regulations, and guidelines.

5. The anticipated date of availability of the DEIS for public review is late 2004.

Luz D. Ortiz,
Army Federal Register Liaison Officer.

[FR Doc. 03-29010 Filed 11-19-03; 8:45 am]

BILLING CODE 3710-KN-M